DEPARTMENT OF HEALTH AND HUMAN SERVICES

Centers for Medicare & Medicaid Services

[Document Identifier: CMS-R-26, CMS-R- 185, CMS-116, CMS-2746 and CMS-10261]

Agency Information Collection Activities: Submission for OMB Review; Comment Request

AGENCY: Centers for Medicare & Medicaid Services, HHS.

ACTION: Notice; partial withdrawal.

SUMMARY: On Monday, September 25, 2023, the Centers for Medicare & Medicaid Services (CMS) published a notice document entitled, “Agency Information Collection Activities: Submission for OMB Review; Comment Request.” That notice invited public comments on five separate information collection requests, under Document Identifiers: CMS-R-26, CMS-R- 185, CMS-116, CMS-2746 and CMS-10261. Through the publication of this document, we are withdrawing the portion of the notice requesting public comment on the information collection request titled, “Clinical Laboratory Improvement Amendments (CLIA) Regulations.” Form number: CMS-R-26 (OMB control number: 0938-0612). We are also withdrawing the portion of the notice requesting public comment on the information collection request titled, “Granting and Withdrawal of Deeming Authority to Private Nonprofit Accreditation Organizations and CLIA Exemption Under State Laboratory Programs.” Form number: CMS-R-185 (OMB control number 0938-0686).

DATES: The original comment period for the document that published on September 25, 2023, remains in effect and ends October 25, 2023.

SUPPLEMENTARY INFORMATION:

In FR document, 2023-20739, published on September 25, 2023 (88 FR 65689), we are withdrawing item 1 ” Clinical Laboratory Improvement Amendments (CLIA) Regulations” which begins on page 65689. We are also withdrawing item 2 ” Granting and Withdrawal of Deeming Authority to Private Nonprofit Accreditation Organizations and CLIA Exemption Under State Laboratory Programs.” which begin on page 65690. These items were published in error. Both items will be republished at a later date, thereby providing the public a full 30-day comment period as required by the Paperwork Reduction Act of 1995 (44 U.S.C. 3501 et seq.).

Dated: September 27, 2023.
William N. Parham, III,
Director, Paperwork Reduction Staff, Office of Strategic Operations and Regulatory Affairs.

[FR Doc. 2023-21669 Filed 9-29-23; 8:45 am]

BILLING CODE 4120-01-P